DEPARTMENT OF THE INTERIOR

Bureau of Land Management

[WY-921-1430-ET; WYW 83357-03]

Public Land Order No. 7489; Partial Revocation of Six Secretarial Orders; Wyoming

AGENCY: Bureau of Land Management, Interior.

ACTION: Public Land Order.

SUMMARY: This order partially revokes six Secretarial Orders insofar as they affect 9,560.53 acres of public lands withdrawn for stock driveway purposes. The lands are no longer needed for the purpose for which they were withdrawn. Of the lands being revoked, 318.72 acres have been conveyed out of Federal ownership and the revocation of these lands is a record clearing action only. This action will open the remaining 9,241.81 acres to surface entry unless closed by overlapping withdrawals or temporary segregations of record. The lands have been and will remain open to mining location and mineral leasing.

EFFECTIVE DATE: July 13, 2001.

FOR FURTHER INFORMATION CONTACT: Janet Booth, BLM Wyoming State Office, P.O. Box 1828, Cheyenne, Wyoming 82003, 307-775-6124.

SUPPLEMENTARY INFORMATION: By virtue of the authority vested in the Secretary of the Interior by Section 204 of the Federal Land Policy and Management Act of 1976, 43 U.S.C. 1714 (1994), it is ordered as follows:

1. The Secretarial Orders dated October 20, 1917, April 24, 1918, February 5, 1924, August 7, 1929, December 12, 1938, and May 13, 1944, which withdrew public lands for Stock Driveway Nos. 3, 14, and 128, are hereby revoked insofar as they affect the following described lands:

Sixth Principal Meridian

T. 44 N., R. 76 W.,

Sec. 6, lots 12 and 13.

T. 42 N., R. 77 W.,

Sec. 27, S½;

Sec. 34, N½.

T. 44 N., R. 77 W.,

Sec. 33, lot 12.

T. 42 N., R. 78 W.,

Sec. 13, SW¼.

T. 43 N., R. 78 W.,

Sec. 15, W½NW¼, SE¼NW¼, and SW¼;

Sec. 21, N½N½ and SE¼NE¼.

T. 44 N., R. 78 W.,

Sec. 6;

T. 56 N., R. 78 W.,

Sec. 11, S½SE¼.

T. 44 N., R. 79 W.,

Sec. 6, lots 4 to 7, inclusive;

Sec. 28, SE¼;

Sec. 33.

T. 45 N., R. 79 W.,

Sec. 3, SW¼, W½SE¼, and SE¼SE¼;

Sec. 25.

T. 50 N., R. 80 W.,

Sec. 6, lots 8 to 17, inclusive, and lots 19, 20, and 21.

T. 51 N., R. 80 W.,

Sec. 31, lots 5 to 11, inclusive, NE¼, E½NW¼, NE¼SW¼, and NW¼SE¼.

T. 42 N., R. 81 W.,

Sec. 10, NE¼SW¼, S½SW¼, and SW¼SE¼;

Sec. 14, NW¼NW¼;

Sec. 15, N½NE¼ and NE¼NW¼.

T. 45 N., R. 81 W.,

Sec. 8, S½NE¼, E½W½, and SE¼;

Sec. 17, N½NE¼ and NE¼NW¼.

T. 50 N., R. 81 W.,

Sec. 1, lots 1 and 2, and S½NE¼.

T. 44 N., R. 83 W.,

Sec. 33, SE¼;

Sec. 34, E½NW¼, SW¼NW¼, and SW¼.

T. 43 N., R. 84 W.,

Sec. 31, lots 5 to 11, inclusive, NE¼SW¼, and N½SE¼;

Sec. 32, lots 3 to 7, inclusive, and NW¼SW¼;

Sec. 33, lots 5 to 8, inclusive;

Sec. 34, lots 1 and 2.

T. 42 N., R. 85 W.,

Sec. 4, lots 3 and 4, S½NW¼, and SW¼;

Sec. 5, lots 1, 2, and 3, and S½NE¼.

T. 46 N., R. 85 W.,

Sec. 6, lot 2.

T. 47 N., R. 85 W.,

Sec. 5, lots 5 to 15, inclusive;

Sec. 8, E½;

Sec. 17, E½;

Sec. 20, N½NE¼.

T. 57 N., R. 87 W.,

Sec. 19, lots 1, 3, and 4, E½SW, and SE¼;

Sec. 29, SW¼.

The areas described aggregate 9,241.81 acres in Johnson and Sheridan Counties.

2. The Secretarial Order dated October 20, 1917, which withdrew public lands for Stock Driveway No. 3, is hereby revoked insofar as it affects the following described lands:

Sixth Principal Meridian

T. 44 N., R. 77 W.,

Sec. 33, lot 11 and SE¼SW¼.

T. 50 N., R. 80 W.,

Sec. 6, NW¼SE¼.

T. 57 N., R. 87 W.,

Sec. 19, lot 2, W½NE¼ and E½NW¼.

The areas described aggregate 318.72 acres in Johnson and Sheridan Counties.

The total areas described in paragraphs 1 and 2 aggregate 9,560.53 acres in Johnson and Sheridan Counties.

3. At 9 a.m. on July 13, 2001, the lands described in paragraph 1 shall be opened to the operation of the public land laws generally, subject to valid existing rights, the provisions of existing withdrawals, other segregations of record and the requirements of applicable law. All valid applications received at or prior to 9 a.m. on July 13, 2001, shall be considered as simultaneously filed at that time. Those received thereafter shall be considered in the order of filing.

4. The lands described in paragraph 2 has been conveyed out of Federal ownership. This is a record clearing action only.

Dated: May 29, 2001.
Gale A. Norton,
Secretary of the Interior.

[FR Doc. 01-14827 Filed 6-12-01; 8:45 am]

BILLING CODE 4310-22-P